DEPARTMENT OF AGRICULTURE

Agricultural Marketing Service

[Doc. No. FV06-372]

Notice of Change in Interest Rate Awarded in Reparation Proceedings Under the Perishable Agricultural Commodities Act

AGENCY: Agricultural Marketing Service, USDA.

ACTION: Notice.

SUMMARY: The Department of Agriculture (USDA) has changed the method used to calculate the interest to be awarded in reparation awards issued under the Perishable Agricultural Commodities Act (PACA).

Additional Information: Contact Dexter Thomas, Senior Marketing Specialist, PACA Branch, Fruit and Vegetable Programs, AMS, USDA, 1400 Independence Avenue, SW., Room 2095—South Building , Mail Stop 0242, Washington, DC 20250-0242. E-mail—dexter.thomas@usda.gov. This notice will also be posted on the Internet at http://www.ams.usda.gov/fv/paca.htm.

SUPPLEMENTARY INFORMATION: Since 1992, reparation awards issued pursuant to the provisions of the Perishable Agricultural Commodities Act, 1930, as amended (7 U.S.C. 499a et seq.) (PACA), have included interest at the rate of 10 percent per annum on the basic damage award to provide the injured party the full amount of damages sustained. Public notice is hereby given that the Secretary of Agriculture, through the Judicial Officer, will now assess interest in PACA reparation awards consistent with the methodology set forth in 28 U.S.C. 1961 which sets forth a uniform rate of interest on any monetary judgment in a civil case recovered in district court, as well as final judgments against the United States in the United States Court of Appeals for the Federal circuit, and judgments of the United States Court of Federal Claims.

In an Order on Reconsideration issued on February 21, 2006, in a reparation proceeding under the PACA (PGB International, LLC, v. Bayche Companies, Inc., PACA Docket Number R-05-118, Decision on Reconsideration (2006)), the Judicial Officer noted that there should be consistency in the rate of interest on monetary judgments awarded in all federal forums. Since a claim can be pursued in a federal district court rather than under the PACA, and since the decision of the Secretary is appealable to the Federal district courts, the Judicial Officer found it appropriate for the Secretary to follow the same procedural statute for assessing interest on money judgments as in civil cases recovered in other Federal courts. The Judicial Officer further noted that other federal agencies have also determined that it is appropriate to utilize the formula stated in 28 U.S.C. 1961 to set the interest rate on monetary awards made in an administrative forum.

Accordingly, all reparation awards issued under the PACA subsequent to the Judicial Officer's February 21, 2006, Order shall be calculated in accordance with 28 U.S.C. 1961. The interest rate shall be calculated on the date of the Order, at a rate equal to the weekly average 1-year constant maturity treasury yield, as published by the Board of Governors of the Federal Reserve System, for the calendar week preceding the date of the Order.

Dated: April 24, 2006.
Lloyd C. Day,
Administrator, Agricultural Marketing Service.

[FR Doc. E6-6388 Filed 4-27-06; 8:45 am]

BILLING CODE 3410-02-P